ENVIRONMENTAL PROTECTION AGENCY

[EPA-HQ-OAR-2010-0841; FRL-9228-2]

PSD and Title V Permitting Guidance for Greenhouse Gases

AGENCY: Environmental Protection Agency (EPA).

ACTION: Notice of availability and public comment period.

SUMMARY: Notice is hereby given that the EPA has posted its guidance titled, “PSD and Title V Permitting Guidance for Greenhouse Gases” on its significant guidance Internet Web site. EPA invites public comments on this guidance document during the comment period specified below.

DATES: Comments should be submitted on or before December 1, 2010. Please refer to SUPPLEMENTARY INFORMATION for additional information on the comment period.

ADDRESSES: Submit your comments, identified by Docket ID No. EPA-HQ-OAR-2010-0841, by one of the following methods:

• http://www.regulations.gov. Follow the on-line instructions for submitting comments.

• E-mail: a-and-r-docket@epa.gov. Attention Docket ID No. EPA-HQ-OAR-2010-0841.

• Fax: 202-566-9744. Attention Docket ID No. EPA-HQ-OAR-2010-0841.

• Mail: Air Docket, Attention Docket ID No. EPA-HQ-OAR-2010-0841, Environmental Protection Agency, Mail Code: 6102T, 1200 Pennsylvania Ave., NW., Washington, DC 20460.

• Hand Delivery: EPA Docket Center, 1301 Constitution Avenue, NW., Room 3334, Washington, DC. Such deliveries are only accepted during the Docket Center's normal hours of operation, and special arrangements should be made for deliveries of boxed information.

Instructions: Direct your comments to Docket ID No. EPA-HQ-OAR-2010-0841. The EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov or e-mail. The http://www.regulations.gov Web site is an “anonymous access” system, which means EPA will not know your identity or contact information unless you provide it in the body of your comment. If you send an e-mail comment directly to EPA without going through http://www.regulations.gov, your email address will be automatically captured and included as part of the comment that is placed in the public docket and made available on the Internet. If you submit an electronic comment, EPA recommends that you include your name and other contact information in the body of your comment and with any disk or CD-ROM you submit. If EPA is unable to read your comment and cannot contact you for clarification due to technical difficulties, EPA may not be able to consider your comment. Electronic files should avoid the use of special characters, any form of encryption, and be free of any defects or viruses. For additional information about EPA's public docket, visit the EPA Docket Center homepage at http://www.epa.gov/epahome/dockets.htm. For additional instructions on submitting comments, go to Section II of the SUPPLEMENTARY INFORMATION section of this document.

Docket: All documents in the docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the EPA Docket Center, EPA West, Room 3334, 1301 Constitution Avenue, NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For questions concerning this action, please contact David Svendsgaard, U.S. EPA, Office of Air Quality Planning and Standards, Air Quality Policy Division, C504-03, Research Triangle Park, NC 27711, telephone (919) 541-2380, e-mail at svendsgaard.dave@epa.gov.

SUPPLEMENTARY INFORMATION:

I. General Information

A. What should I consider as I prepare my comments for EPA?

1. Submitting CBI. Do not submit this information to EPA through http://www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2. Send or deliver information identified as CBI only to the following address: Roberto Morales, U.S. EPA, Office of Air Quality Planning and Standards, Mail Code C404-02, Research Triangle Park, NC 27711, telephone (919) 541-0880, e-mail at morales.roberto@epa.gov, Attention Docket ID No. OAR-2010-0841.

2. Tips for Preparing Your Comments. When submitting comments, remember to:

• Identify the docket number and other identifying information (subject heading, Federal Register date and page number).

• Follow directions. The agency may ask you to respond to specific questions or organize comments by referencing a part or section number in the guidance.

• Explain why you agree or disagree with EPA's guidance; and suggest alternatives and substitute language that would help to clarify or better explain the points made and positions taken in EPA's guidance document.

II. Background

The purpose of this notice is to solicit public comments on EPA's recently posted guidance titled, “PSD and Title V Permitting Guidance for Greenhouse Gases.” This document has been determined to be an EPA Significant Guidance Document per the OMB Bulletin definition and is included on the EPA list of significant guidance documents. It is available online at http://www.epa.gov/regulations/guidance/byoffice-oar.html or within the associated docket.

The guidance document is intended to assist permit writers and permit applicants in addressing the Prevention of Significant Deterioration (PSD) and title V permitting requirements for greenhouse gases (GHGs) that begin to apply on January 2, 2011, to certain sources.¹ The document: (1) Describes, in general terms and through examples, the requirements of the PSD and title V permit regulations and how these requirements apply to GHGs; (2) reiterates and emphasizes relevant past EPA guidance on the PSD and title V review processes for other regulated air pollutants; and (3) provides additional recommendations and suggested methods for meeting the permitting requirements for GHGs. We believe this guidance provides the basic information that permitting agencies and applicants need to address GHG emissions in permits. In addition, EPA will continue to work closely with all stakeholders to ensure a smooth transition to the permitting of GHGs.

¹ EPA established PSD and title V applicability thresholds for GHG under the GHG Tailoring Rule at 75 FR 31514 (June 3, 2010).

EPA invites public comment on all aspects of its guidance document during the 14-day comment period. The guidance is not a regulation and does not establish binding requirements on EPA or any state, local, or tribal agency that is authorized to issue PSD or title V permits to satisfy requirements of the Clean Air Act; however, this guidance is hereby in effect and, consequently, EPA and other agencies may apply this guidance without, and regardless of, any additional action by EPA specific to this guidance. Although EPA has established a docket and is requesting public comment on the guidance, this procedure does not alter the nature or effect of the guidance and does not constitute a formal rulemaking process or require EPA to respond to public comments on the guidance before EPA or other agencies may apply the guidance in any permitting decision. After considering public comments, EPA retains the discretion to revise its guidance, issue additional guidance, propose regulations as appropriate, and to utilize information submitted in public comments to inform proposed permit decisions. An additional opportunity for public comment is required for any proposed decision by EPA or another agency to issue a PSD or title V permit, and such comments may address the applicability of this guidance to specific permit applications.

Most immediately, EPA seeks comment on whether the guidance presented in the document contains any technical or calculation errors. EPA also will consider comments on other aspects of the guidance. Because the guidance does not constitute a formal rulemaking action, EPA does not intend to respond to comments, but will take such comments under consideration. To the extent that EPA determines that comments received during the 14-day comment period justify corrections or clarifications to the guidance, EPA may revise and reissue the permitting guidance and post the revised document on the significant guidance Web site.

Please refer to the ADDRESSES section above in this document for specific instructions on submitting comments.

III. Internet Web Site for Guidance Information

The guidance titled, “PSD and Title V Permitting Guidance for Greenhouse Gases” can be found at: http://www.epa.gov/regulations/guidance/byoffice-oar.html.

Dated: November 10, 2010.
Mary E. Henigin,
Acting Director, Office of Air Quality Planning and Standards.

[FR Doc. 2010-28962 Filed 11-16-10; 8:45 am]

BILLING CODE 6560-50-P